DEPARTMENT OF DEFENSE

Office of the Secretary

[Docket ID DoD-2008-HA-0144]

Proposed Collection; Comment Request

AGENCY: Office of the Assistant Secretary of Defense for Health Affairs, DoD.

ACTION: Notice.

In compliance with Section 3506(c)(2)(A) of the Paperwork Reduction Act of 1995, the Office of the Assistant Secretary of Defense for Health Affairs announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by January 26, 2009.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Assistant Secretary of Defense for Health Affairs, Force Health Protection and Readiness, ATTN: Ms. Caroline Miner, 5113 Leesburg Pike, Suite 901, Falls Church, Virginia 22041, or call Force Health Protection and Readiness, at 703-578-8500 or 1-800-754-2132.

Title; Associated Form; and OMB Number: Survey of Experiences with the Human Subjects Review Process; OMB Control Number 0720-TBD.

Needs and Uses: This information collection aligns with the Military Health System objectives to foster research innovations and to transform the infrastructure to eliminate redundancies and increase desired outcomes. The proposed information collection will enable the Office of the Under Secretary of Defense for Personnel and Readiness, Human Research Protection Program to assess the effectiveness of current review processes and facilitate efforts to measure and improve the overall efficiency and effectiveness of the program.

Affected Public: Individuals or households.

Annual Burden Hours: 500.

Number of Respondents: 1000.

Responses per Respondent: 1.

Average Burden per Response: 30 minutes.

Frequency: On occasion.

SUPPLEMENTARY INFORMATION:

Summary of Information Collection

Respondents are researchers who may have submitted a research protocol to an Office of the Under Secretary of Defense for Personnel and Readiness institution for human subjects review within the past year. The survey will ask respondents about the number and types of approvals required for their research and the amount of time taken to obtain the required reviews and approvals.

Dated: November 18, 2008.
Patricia L. Toppings,
OSD Federal Register Liaison Officer, Department of Defense.

[FR Doc. E8-27957 Filed 11-24-08; 8:45 am]

BILLING CODE 5001-06-P